ENVIRONMENTAL PROTECTION AGENCY

[EPA-HQ-OAR-2021-9309; FRL-9309-01-OAR]

Clean Air Act Advisory Committee (CAAAC): Notice of Meeting

AGENCY: Environmental Protection Agency (EPA).

ACTION: Notice of meeting.

SUMMARY: Pursuant to the Federal Advisory Committee Act (FACA), the Environmental Protection Agency (EPA) is announcing a public meeting of the Clean Air Act Advisory Committee (CAAAC) to be conducted via remote/virtual participation only. The EPA renewed the CAAAC charter on November 19, 2020, to provide independent advice and counsel to EPA on economic, environmental, technical, scientific and enforcement policy issues associated with implementation of the Clean Air Act of 1990.

DATES: The CAAAC will hold its next public meeting remotely/virtually on Wednesday, December 15, 2021, from 1 p.m. to 4 p.m. (EST). Members of the public may register to listen to the meeting or provide comments, by emailing caaac@epa.gov by 5 p.m. (EST) December 14, 2021. In addition, the CAAAC will hold the next public meeting remotely/virtually on Tuesday, February 8, 2022, and Wednesday, February 9, 2022, from 1 p.m. to 4 p.m. (EST). Members of the public may register to listen to the meeting or provide comments, by emailing caaac@epa.gov by 5 p.m. (EST) February 7, 2022.

FOR FURTHER INFORMATION CONTACT: Lorraine Reddick, Designated Federal Official, Clean Air Act Advisory Committee (6103A), Environmental Protection Agency, 1200 Pennsylvania Ave. NW, Washington, DC 20460; telephone number: 202-564-1293; email address: reddick.lorraine@epa.gov. Additional information about this meeting, the CAAAC, and its subcommittees and workgroups can be found on the CAAAC website: http://www.epa.gov/caaac/.

SUPPLEMENTARY INFORMATION: Pursuant to 5 U.S.C. App. 2 section 10(a)(2), notice is hereby given that the Clean Air Act Advisory Committee will hold its next public meeting remotely/virtually on Wednesday, December 15, 2021, from 1 p.m. to 4 p.m. (EST). In addition, the CAAAC will hold the next public meeting remotely/virtually on Tuesday, February 8, 2022 and Wednesday, February 9, 2022, from 1 p.m. to 4 p.m. (EST).

The committee agenda and any documents prepared for the meeting will be publicly available on the CAAAC website at http://www.epa.gov/caaac/ prior to the meeting. Thereafter, these documents, together with CAAAC meeting minutes, will be available on the CAAAC website or by contacting the Office of Air and Radiation Docket and requesting information under docket EPA-HQ-OAR-2021-9309-1.

The docket office can be reached by email at: a-and-r-Docket@epa.gov or FAX: 202-566-9744.

For information on access or services for individuals with disabilities, please contact Lorraine Reddick at reddick.lorraine@epa.gov, preferably at least 7 days prior to the meeting to give EPA as much time as possible to process your request.

Dated: November 23, 2021.
John Shoaff,
Director, Office of Air Policy and Program Support, Environmental Protection Agency.

[FR Doc. 2021-25996 Filed 11-29-21; 8:45 am]

BILLING CODE 6560-50-P